DEPARTMENT OF DEFENSE

Department of the Army

Availability of a Novel Composite Debonding Technology for Exclusive, Partially Exclusive or Non-Exclusive Licenses

AGENCY: Department of the Army, DoD.

ACTION: Notice of availability.

SUMMARY: The Department of the Army announces the general availability of exclusive, partially exclusive or non-exclusive licenses relative to novel composite debonding technology as described in U.S. Patent application “Article and Method for Controlled Debonding of Elements Using Shape Memory Alloy Actuators” (U.S. Patent Application No. 10/376629). Any license shall comply with 35 U.S.C. 209 and 37 CFR part 404.

FOR FURTHER INFORMATION CONTACT: Michael D. Rausa, U.S. Army Research Laboratory, Office of Research and Technology Applications, ATTN: AMSRL-DP-T/Bldg., 459, Aberdeen Proving Ground, MD 21005-5425, telephone: (410) 278-5028.

SUPPLEMENTARY INFORMATION: None.

Luz D. Ortiz,
Army Federal Register Liaison Officer.

[FR Doc. 03-15015 Filed 6-12-03; 8:45 am]

BILLING CODE 3710-08-M